DEPARTMENT OF JUSTICE

Drug Enforcement Administration

[Docket No. DEA-541]

Bulk Manufacturer of Controlled Substances Application: Rhodes Technologies

ACTION: Notice of application.

DATES: Registered bulk manufacturers of the affected basic classes, and applicants therefore, may file written comments on or objections to the issuance of the proposed registration on or before January 13, 2020.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on August 16, 2019, Rhodes Technologies, 498 Washington Street, Coventry, Rhode Island 02816 applied to be registered as a bulk manufacturer of the following basic classes of controlled substances:

Controlled substance | Drug code | Schedule
Marihuana | 7360 | I
Tetrahydrocannabinols | 7370 | I
Dihydromorphine | 9145 | I
Methylphenidate | 1724 | II
Codeine | 9050 | II
Dihydrocodeine | 9120 | II
Oxycodone | 9143 | II
Hydromorphone | 9150 | II
Hydrocodone | 9193 | II
Levorphanol | 9220 | II
Morphine | 9300 | II
Oripavine | 9330 | II
Thebaine | 9333 | II
Oxymorphone | 9652 | II
Noroxymorphone | 9668 | II
Tapentadol | 9780 | II
Fentanyl | 9801 | II

The company plans to manufacture the listed controlled substances in bulk for conversion and sale to finished dosage form manufacturers. In reference to drug codes 7360 (marihuana), and 7370 (tetrahydrocannabinols), the company plans to bulk manufacture these drugs as synthetic cannabidiol (CBD) and tetrahydrocannabinol (THC). No other activities for drug codes 7360 and 7370 are authorized for this registration.

Dated: October 30, 2019.
William T. McDermott,
Assistant Administrator.

[FR Doc. 2019-24545 Filed 11-8-19; 8:45 am]

BILLING CODE 4410-09-P